ENVIRONMENTAL PROTECTION AGENCY

40 CFR Part 52

[EPA-R09-OAR-2025-0292; FRL-12825-02-R9]

Determination of Attainment by the Attainment Date and Clean Data Determination; California, San Joaquin Valley 1997 Annual PM2.5 Fine Particulate Matter Nonattainment Area

AGENCY: Environmental Protection Agency (EPA).

ACTION: Final rule.

SUMMARY: The Environmental Protection Agency (EPA) is finalizing our determination that the San Joaquin Valley, California, fine particulate matter (PM2.5) nonattainment area attained the 1997 annual PM2.5 national ambient air quality standards (NAAQS) by the December 31, 2024 applicable attainment date. This determination is based on ambient air quality monitoring data from 2022 through 2024. We are also making a clean data determination (CDD) based on the 2022 through 2024 data and our evaluation of preliminary air quality monitoring data from 2025.

DATES: This rule is effective March 2, 2026.

ADDRESSES: The EPA has established a docket for this action under Docket ID No. EPA-R09-OAR-2025-0292. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Ashley Graham, Geographic Strategies and Modeling Section (AIR-2-2), EPA Region IX, 75 Hawthorne Street, San Francisco, CA 94105; telephone number: (415) 972-3877; email address: graham.ashleyr@epa.gov.

SUPPLEMENTARY INFORMATION: Throughout this document, “we,” “us,” and “our” refer to the EPA.

Table of Contents

I. Summary of the Proposed Action

II. Public Comment

III. Final Action

IV. Statutory and Executive Order Reviews

I. Summary of the Proposed Action

On July 16, 2025, the EPA proposed to determine, based on complete (or otherwise validated), quality-assured, and certified data meeting the requirements of 40 CFR part 50, appendix N for 2022 through 2024, that the San Joaquin Valley PM2.5 nonattainment area attained the 1997 annual PM2.5 NAAQS by its December 31, 2024 attainment date.¹

¹ 90 FR 31906 (July 16, 2025).

In accordance with 40 CFR 51.1015, we also proposed to issue a CDD for the San Joaquin Valley PM2.5 nonattainment area for the 1997 annual PM2.5 NAAQS.² We proposed to issue a CDD based on our determination that the San Joaquin Valley had attained and was currently attaining the 1997 annual PM2.5 NAAQS.³

² Id.

³ The EPA evaluated preliminary data available in the EPA's Air Quality System (AQS) for 2025 (January through March). These data indicated that the San Joaquin Valley area continued to show concentrations below the level of the 1997 annual PM2.5 NAAQS. Id. at 31910.

The EPA's proposal explained that if we were to finalize the CDD, the requirements for the area to submit attainment planning provisions to meet the requirements for an attainment plan for the 1997 annual PM2.5 NAAQS, including an attainment demonstration, reasonable further progress plan, quantitative milestones, quantitative milestone reports, and contingency measures, would be suspended until such time as: (1) the area is redesignated to attainment, after which such requirements are permanently discharged; or (2) the EPA determines that the area has re-violated the PM2.5 NAAQS, at which time the state shall submit such attainment plan elements for the nonattainment area by a future date to be determined by the EPA and announced through publication in the Federal Register at the time the EPA determines the area is violating the PM2.5 NAAQS.

Finally, the EPA's proposal explained that the CDD does not constitute a redesignation to attainment. The San Joaquin Valley PM2.5 nonattainment area will remain designated nonattainment for the 1997 annual PM2.5 NAAQS until such time as the EPA determines, pursuant to sections 107 and 175A of the Clean Air Act (CAA), that the San Joaquin Valley PM2.5 nonattainment area meets the CAA requirements for redesignation to attainment, including an approved maintenance plan showing that the area will continue to meet the 1997 annual PM2.5 NAAQS for 10 years.⁴

⁴ Id.

Please see our July 16, 2025 proposed rulemaking for additional background and a detailed explanation of the rationale for our proposed action.⁵

⁵ 90 FR 31906 (July 16, 2025).

II. Public Comment

The public comment period for the proposed rulemaking opened on July 16, 2025,⁶ the date of its publication in the Federal Register, and closed on August 15, 2025. During this period, the EPA received two comment submissions, including one comment submission from an anonymous private citizen ⁷ and one comment letter from San Joaquin Valley Unified Air Pollution Control District (SJVUAPCD).⁸ Both comments are included in the docket for this action.

⁶ Id.

⁷ Comment dated and received August 5, 2025, submitted anonymously to Docket ID No. EPA-R09-OAR-2025-0292.

⁸ Letter dated August 15, 2025, from Emily Kneeland, Director of Air Quality Planning, SJVUAPCD, to Docket ID No. EPA-R09-OAR-2025-0292, Subject: “RE: Docket No. EPA-R09-OAR-2025-0292, Determination of Attainment by the Attainment Date and Clean Data Determination; California, San Joaquin Valley 1997 Annual PM2.5 Fine Particulate Matter Nonattainment Area.”

The comment submission from SJVUAPCD was supportive of our proposal to determine that the San Joaquin Valley attained the 1997 annual PM2.5 NAAQS by the December 31, 2024 attainment date and to issue a CDD for the area. The comment submission from the private citizen commenter was not germane to the action. We did not receive any comments that opposed the EPA's proposal to make an attainment determination by the applicable attainment date and issue a CDD. Thus, the comments received do not require a response.

III. Final Action

For the reasons discussed in detail in our proposed action, the EPA is finalizing our determination that the San Joaquin Valley nonattainment area has attained the 1997 annual PM2.5 NAAQS by the December 31, 2024 attainment date, based on complete, quality-assured, and certified ambient air quality monitoring data for the 2022-2024 monitoring period.⁹ The EPA is taking this final action pursuant to CAA sections 179(c)(1).

⁹ EPA, AQS Design Value Report (AMP480), Report Request ID: 2335768, November 28, 2025.

Preliminary data available in the EPA's Air Quality System (AQS) for 2025 (January through October) indicate that the San Joaquin Valley area continues to show concentrations consistent with attainment of the 1997 annual PM2.5 NAAQS; ¹⁰ therefore, as provided in 40 CFR 51.1015, we are also finalizing a CDD. Consequently, the requirements for this area to submit any SIP revisions related to attainment of the 1997 annual PM2.5 NAAQS, including an attainment demonstration, reasonable further progress plan, quantitative milestones, quantitative milestone reports, and contingency measures, will be suspended for so long as the area continues to attain those NAAQS. This final determination that the San Joaquin Valley nonattainment area has attained the 1997 annual PM2.5 NAAQS does not constitute a redesignation of the area to attainment. The designation status of the San Joaquin Valley area will remain “Serious” nonattainment for the 1997 annual PM2.5 NAAQS until such time as the EPA determines, pursuant to sections 107 and 175A of the CAA, that the area meets the CAA requirements for redesignation to attainment, including an approved maintenance plan showing that the area will continue to meet the standards for 10 years.

¹⁰ EPA, AQS Design Value Report (AMP480), Report Request ID: 2344358, January 8, 2026.

IV. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have Tribal implications. It will neither impose substantial direct costs on federally recognized tribal governments nor preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Congressional Review Act (CRA)

This action is subject to the CRA and the EPA will submit a rule report to each House of the Congress and to the Comptroller General of the United States. This action is not a “major rule” as defined by 5 U.S.C. 804(2).

L. Petitions for Judicial Review

Under section 307(b)(1) of the CAA, petitions for judicial review of this action must be filed in the United States Court of Appeals for the appropriate circuit by March 30, 2026. Filing a petition for reconsideration by the Administrator of this final rule does not affect the finality of this rule for the purposes of judicial review, nor does it extend the time within which a petition for judicial review may be filed, and shall not postpone the effectiveness of such rule or action. This action may not be challenged later in proceedings to enforce its requirements (see section 307(b)(2)).

List of Subjects in 40 CFR Part 52

Environmental protection, Air pollution control, Ammonia, Incorporation by reference, Intergovernmental relations, Nitrogen oxides, Particulate matter, Reporting and recordkeeping requirements, Sulfur oxides, Volatile organic compounds.

Dated: January 21, 2026.
Michael Martucci,
Acting Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.247 is amended by adding paragraph (s) to read as follows:

§ 52.247 Control Strategy and regulations: Fine Particle Matter.

* * * * *

(s) Determination of attainment. Effective March 2, 2026, the EPA has determined that, based on 2022 to 2024 ambient air quality data, the San Joaquin Valley PM2.5 nonattainment area has attained the 1997 annual PM2.5 NAAQS by the applicable attainment date of December 31, 2024. Therefore, the EPA has met the requirement pursuant to CAA section 179(c)(1) to determine whether the area attained the standards. Under the provisions of the EPA's PM2.5 implementation rule (see 40 CFR 51.1015), this determination suspends the requirements for this area to submit an attainment demonstration, a reasonable further progress plan, quantitative milestones, quantitative milestone reports, contingency measures, and any other planning SIP revisions related to attainment for as long as this area continues to attain the 1997 annual PM2.5 NAAQS. If the EPA determines, after notice-and-comment rulemaking, that this area no longer meets the 1997 annual PM2.5 NAAQS, the corresponding determination of attainment for that area shall be withdrawn.

[FR Doc. 2026-01766 Filed 1-28-26; 8:45 am]

BILLING CODE 6560-50-P